ENVIRONMENTAL PROTECTION AGENCY

[FRL-7977-2]

Electronic Reporting to EPA

AGENCY: Environmental Protection Agency (EPA).

ACTION: Notice of EPA Systems Designated for Receipt of Electronic Submissions.

SUMMARY: This notice designates all EPA systems already receiving electronic reports as of the publication of this notice acceptable to continue receiving electronic reports for a period of up to two years.

FOR FURTHER INFORMATION CONTACT: David Schwarz, U.S. Environmental Protection Agency, Office of Environmental Information, Mail Stop 2823T, 1200 Pennsylvania Avenue, NW., Washington, DC 20460, (202) 566-1704, schwarz.david@epa.gov, or Evi Huffer, U.S. Environmental Protection Agency, Office of Environmental Information, Mail Stop 2823T, 1200 Pennsylvania Avenue, NW., Washington, DC 20460, (202) 566-1697, huffer.evi@epa.gov.

SUPPLEMENTARY INFORMATION:

What Action Is EPA Taking?

A. Background

Elsewhere in today's Federal Register, the EPA has published its Electronic Reporting Rule, the “Cross-Media Electronic Reporting” (“CROMERR”), located at 40 CFR part 3. CROMERR provides the performance standards applicable to electronic reporting under EPA's authorized state, tribe, and local programs. If reporting to EPA rather than authorized programs, § 3.10 of CROMERR requires submission of an electronic document to EPA's Central Data Exchange, or “to another EPA electronic document receiving system that the Administrator may designate for the receipt of specified submissions[.]” This notice is intended to designate certain EPA electronic document receiving systems for receipt of submissions under CROMERR, as discussed below.

B. Today's Action

In accordance with 40 CFR 3.10, EPA hereby designates for the receipt of electronic submissions, all EPA electronic document receiving systems currently existing and receiving electronic reports as of the date of this notice. This designation is valid for a period of up to two years from the date of publication of this notice. During this two-year period, entities that report directly to EPA may continue to satisfy EPA reporting requirements by reporting to the same systems as they did prior to CROMERR's publication unless EPA publishes a notice that announces changes to, or migration from, that system.

Any existing systems continuing to receive electronic reports at the expiration of this two-year period must receive redesignation by the Administrator under § 3.10. Notice of such redesignation will be published in the Federal Register.

C. How Can I Get Copies of This Document and Other Related Information?

A copy of this notice has been placed in EPA's official public docket for CROMERR, Docket ID No. OEI-2003-0001. The official public docket is the collection of materials that is available for public viewing at the OEI Docket in the EPA Docket Center, (EPA/DC) EPA West, Room B102, 1301 Constitution Avenue, NW., Washington, DC. The EPA Docket Center Public Reading Room is open from 8:30 a.m. to 4:30 p.m., Monday through Friday, excluding legal holidays. The telephone number for the Public Reading Room is (202) 566-1744, and the telephone number for the OEI Docket is (202) 566-1752.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.C. Once in the system select “search,” then key in the appropriate docket identification number.

Dated: September 22, 2005.
Stephen L. Johnson,
Administrator.

[FR Doc. 05-19602 Filed 10-12-05; 8:45 am]

BILLING CODE 6560-50-P